NATIONAL AERONAUTICS AND SPACE ADMINISTRATION

[Notice 01-074]

Government-Owned Inventions, Available for Licensing

AGENCY: National Aeronautics and Space Administration.

ACTION: Notice of availability of inventions for licensing.

SUMMARY: The inventions listed below are assigned to the National Aeronautics and Space Administration, have been filed in the United States Patent and Trademark Office, and are available for licensing.

DATES: June 14, 2001.

FOR FURTHER INFORMATION CONTACT: Kent N. Stone, Patent Counsel, Glenn Research Center at Lewis Field, Mail Code 500-118, Cleveland, Ohio 44135; telephone (216) 433-8855, fax (216) 433-6790.

NASA Case No. LEW-17110-1: MEMS-Based Spinning Nozzle

With Pre-Mix Chamber;

NASA Case No. LEW-17116-1: Method for Growth of Step-Free SiC Crystal Surfaces and Fabrication of Electronic Device Structures Thereon.

Dated: June 4, 2001.
Edward A. Frankle,
General Counsel.

[FR Doc. 01-15017 Filed 6-13-01; 8:45 am]

BILLING CODE 7510-01-P